DEPARTMENT OF LABOR

Employment and Training Administration

[TA-W-65,045A]

Parkdale Mills, Inc., Plant #40, Graniteville, South Carolina; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 6, 2009, applicable to workers of Parkdale Mills, Inc., Plant #40, Graniteville, South Carolina (TA-W-65,045A). The notice will soon be published in the Federal Register.

At the request of the State agency, the Department reviewed the certification for workers of the subject firm. The workers produce yarn.

The review shows that all workers of Parkdale Mills, Inc., Plant #40, Graniteville, South Carolina, were previously certified eligible to apply for adjustment assistance under petition number TA-W-60,796, which expired on March 21, 2009.

Therefore, in order to avoid an overlap in worker group coverage, the Department is amending the January 26, 2008 impact date established for TA-W-65,045A, to read March 22, 2009.

The amended notice applicable to TA-W-65,045A is hereby issued as follows:

“All workers of Parkdale Mills, Inc., Plant #40, Graniteville, South Carolina, who became totally separated from employment on March 22, 2009 through April 6, 2011, are eligible to apply for adjustment assistance under Section 223 of the Trade Act of 1974, and are also eligible to apply for alternative trade adjustment assistance under Section 246 of the Trade Act of 1974.”

Signed at Washington, DC, this 22nd day of April 2009.
Linda G. Poole,
Certifying Officer, Division of Trade Adjustment Assistance.

[FR Doc. E9-14070 Filed 6-15-09; 8:45 am]

BILLING CODE 4510-FN-P